DEPARTMENT OF COMMERCE

National Oceanic and Atmospheric Administration

[I.D. 121200A]

Fisheries of the Exclusive Economic Zone Off Alaska; Prohibited Species Donation Program

AGENCY: National Marine Fisheries Service (NMFS), National Oceanic and Atmospheric Administration (NOAA), Commerce.

ACTION: Announcement of approval of data collection.

SUMMARY: NMFS is announcing the approval of an information collection requirement for the Prohibited Species Donation Program.

DATES: Effective March 29, 2002.

FOR FURTHER INFORMATION CONTACT: Patsy Bearden, 907-586-7008.

SUPPLEMENTARY INFORMATION: The information collection requirement for § 679.26, including a revision to paragraph 679.26(c)(3) which was contained in the final rule to amend regulations implementing recordkeeping and reporting requirements for the groundfish fisheries of the exclusive economic zone off Alaska (67 FR 4100, January 28, 2002), was approved by the Office of Management and Budget (OMB) on March 11, 2002, in the renewal of OMB control number 0648-0316.

Dated: March 22, 2002.
Bruce C. Morehead,
Acting Director, Office of Sustainable Fisheries, National Marine Fisheries Service.

[FR Doc. 02-7709 Filed 3-28-02; 8:45 am]

BILLING CODE 3510-22-S